SURFACE TRANSPORTATION BOARD

[Docket No. EP 519 (Sub-No. 5)]

Renewal of National Grain Car Council

AGENCY: Surface Transportation Board.

ACTION: Notice of intent to renew charter.

SUMMARY: In accordance with the Federal Advisory Committee Act, notice is hereby given that the Surface Transportation Board (Board) intends to renew the charter of the National Grain Car Council (NGCC or Council).

ADDRESSES: A copy of the charter will be available on the Board's website at https://www.stb.gov/resources/stakeholder-committees/grain-car-council/.

FOR FURTHER INFORMATION CONTACT: Jeremy Lutes, Designated Federal Officer, at (202) 900-5226. If you require an accommodation under the Americans with Disabilities Act, please call (202) 245-0245.

SUPPLEMENTARY INFORMATION: The NGCC functions as a continuing working group to facilitate private-sector solutions and recommendations to the Board on matters affecting grain transportation. The NGCC functions solely as an advisory body and complies with the provisions of the Federal Advisory Committee Act (FACA), 5 U.S.C. 10, and its implementing regulations.

The NGCC consists of approximately 40 voting members, excluding governmental representatives. The membership comprises a balanced representation of individuals knowledgeable in the transportation of grain, including no fewer than 12 members from the Class I railroads (one marketing and one car management representative from each Class I), seven representatives from Class II and III carriers, 14 representatives from grain shippers and receivers, and seven representatives from private car owners and car manufacturers. All voting members of NGCC serve on the Council in a representative capacity on behalf of their respective industry or stakeholder group. The members of the Board are ex officio (non-voting) members of the NGCC, and the Vice Chair of the Board is designated as Co-Chair of the NGCC. Representatives from the U.S. Departments of Agriculture and Transportation may be invited to serve on the Council in an advisory capacity as ex officio (non-voting) members. Non-voting members of NGCC may consist of regular government employees, and, in some circumstances, special government employees.

The NGCC meets at least annually, and meetings are open to the public, consistent with the Government in the Sunshine Act, Public Law 94-409 (1976).

Further information about the NGCC is available on the Board's website (https://www.stb.gov/resources/stakeholder-committees/grain-car-council/) and at the General Services Administration's FACA database (https://facadatabase.gov/).

Decided: September 19, 2025.

By the Board, Anika Cooper, Director, Office of Chief Counsel.

Zantori Dickerson,
Clearance Clerk.

[FR Doc. 2025-18458 Filed 9-23-25; 8:45 am]

BILLING CODE 4915-01-P